ENVIRONMENTAL PROTECTION AGENCY

40 CFR Part 52

[EPA-R04-OAR-2017-0395; FRL-9975-40-Region 4]

Air Plan Approval; Tennessee: Volatile Organic Compounds

AGENCY: Environmental Protection Agency.

ACTION: Proposed rule.

SUMMARY: The Environmental Protection Agency (EPA) is proposing to approve a portion of a revision to the Hamilton County portion of the Tennessee State Implementation Plan (SIP) submitted by the State of Tennessee through the Tennessee Department of Environment and Conservation from Chattanooga/Hamilton County Air Pollution Control Bureau on June 25, 2008. The revision amends the definition of “volatile organic compounds” (VOC) to be consistent with state and federal regulations. This action is being taken pursuant to the Clean Air Act (CAA or Act).

DATES: Comments must be received on or before April 12, 2018.

ADDRESSES: Submit your comments, identified by Docket ID No. EPA-R04-OAR-2017-0395 http://www.regulations.gov. Follow the online instructions for submitting comments. Once submitted, comments cannot be edited or removed from Regulations.gov. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

FOR FURTHER INFORMATION CONTACT: Tiereny Bell, Air Regulatory Management Section, Air Planning and Implementation Branch, Air, Pesticides and Toxics Management Division, U.S. Environmental Protection Agency, Region 4, 61 Forsyth Street SW, Atlanta, Georgia 30303-8960. Ms. Bell can be reached by phone at (404) 562-9088 or via electronic mail at bell.tiereny@epa.gov.

SUPPLEMENTARY INFORMATION:

I. Background

Tropospheric ozone, commonly known as smog, occurs when VOC and nitrogen oxides (NOX) react in the atmosphere in the presence of sunlight. Because of the harmful health effects of ozone, EPA and state governments limit the amount of VOC and NOX that can be released into the atmosphere. VOC are those compounds of carbon (excluding carbon monoxide, carbon dioxide, carbonic acid, metallic carbides or carbonates, and ammonium carbonate) that form ozone through atmospheric photochemical reactions. Compounds of carbon (or organic compounds) have different levels of reactivity; they do not react at the same speed or do not form ozone to the same extent.

Section 302(s) of the CAA specifies that EPA has the authority to define the meaning of “VOC,” and hence what compounds shall be treated as VOC for regulatory purposes. It has been EPA's policy that compounds of carbon with negligible reactivity need not be regulated to reduce ozone and should be excluded from the regulatory definition of VOC. See 42 FR 35314 (July 8, 1977), 70 FR 54046 (September 13, 2005). EPA determines whether a given carbon compound has “negligible” reactivity by comparing the compound's reactivity to the reactivity of ethane. EPA lists these compounds in its regulations at 40 CFR 51.100(s) and excludes them from the definition of VOC. The chemicals on this list are often called “negligibly reactive.” EPA may periodically revise the list of negligibly reactive compounds to add or delete compounds.

In this rulemaking, EPA is proposing action to approve Hamilton County's SIP revision which amends the definition of “Volatile Organic Compounds” in the Chattanooga Code, Chapter 4 of Part II, Section 4-2. This SIP revision also amends paragraph 3 and adds paragraphs 4 and 5 to the Chattanooga Code, Chapter 4 of Part II, Section 4-2 definition of VOC. Tennessee is updating the Hamilton County portion of its SIP to be consistent with changes to federal and other similar SIP-approved regulations.¹

¹ EPA approved similar revisions to the Tennessee SIP on April 23, 2006. See 71 FR 19124. EPA also approved a Knox County portion of the Tennessee SIP on January 4, 2007. See 72 FR 265.

II. Analysis of State's Submittal

On June 25, 2008, Tennessee submitted a SIP revision ² to EPA for review and approval. The revision amends the definition of VOC found in Chapter 4 of Part II, Section 4-2, of the Chattanooga Code. Specifically, the revision adds the following compounds to the list of negligibly reactive compounds to be consistent with federal and other similar SIP-approved regulations: 1,1,1,2,2,3,3,4,4-nonafluoro-4-methoxy-butane (HFE-7100); methyl acetate; 1,1,1,2,2,3,3-heptafluoro-3-methoxy-propane (n-C3 F7OCH3, HFE-7000); 3-ethoxy-1,1,1,2,3,4,4,5,5,6,6,6-dodecafluoro-2-(trifluoromethyl) hexane (HFE-7500); 1,1,1,2,3,3,3-heptafluoropropane (HFC 227ea); and methyl formate (HCOOCH3). These compounds are excluded from the VOC definition on the basis that each of these compounds makes a negligible contribution to tropospheric ozone formation. EPA is proposing to approve this revision because it is consistent with the definition of VOC at 40 CFR 51.100(s). EPA is also proposing to approve this revision because it is consistent with other similar SIP-approved regulations.

² EPA will consider the other changes included in Tennessee's June 25, 2008, SIP revision in a future rulemaking.

The revision includes minor changes to paragraph 3 of Chattanooga Code, Chapter 4 of Part II, Section 4-2 definition of VOC to be consistent with federal and other similar SIP-approved regulations. As a precondition to excluding compounds as VOCs, paragraph 3 states that: “As a precondition to excluding these compounds as VOC or at any time thereafter, the Director shall require an owner or operator to provide monitoring or testing methods and results demonstrating the amount of negligibly-reactive compounds in the source's emissions.” The SIP revision changes the precondition for the director to require this testing from “shall” to “may” and adds that any testing be “to the satisfaction of the Director” of the Chattanooga-Hamilton County Air Pollution Control Bureau. The SIP revision also adds paragraph 4 which states: “For purposes of enforcement for a specific source, the test methods specified in these regulations, in the approved SIP, or in a permit issued pursuant to these regulations shall be used to be consistent with state regulations.” EPA is proposing to approve these revisions because they are consistent with the definition of VOC at 40 CFR 51.100(s) and with other similar SIP-approved regulations.

Finally, the SIP revision adds paragraph 5 which states: “The following compound(s) are VOC for purposes of all recordkeeping, emissions reporting, photochemical dispersion modeling and inventory requirements which apply to VOC and shall be uniquely identified in emission reports, but are not VOC for purposes of VOC emissions limitations or VOC content requirements: t-butyl acetate.” Through this revision, Hamilton County is also adding t-butyl acetate to the list of negligibly reactive compounds, but maintaining the requirements of recordkeeping, emissions reporting, and inventory. EPA is proposing to approve this revision because it is consistent with the definition of VOC at 40 CFR 51.100(s).3 4

³ In EPA's November 29, 2004, final rulemaking, the Agency added tertiary butyl acetate to the list of excluded compounds from the definition of VOCs. See 69 FR 69298.

⁴ While EPA added t-butyl acetate to the list of negligibly reactive compounds in the November 29, 2004, final rulemaking, t-butyl acetate continued to be a VOC for purposes of all recordkeeping, emissions reporting, and inventory requirements which applied to VOC. See 69 FR 69298. Subsequently, on February 25, 2016 (81 FR 9339), EPA issued a final rule removing recordkeeping, emissions reporting, and inventory requirements for t-Butyl acetate. Although EPA no longer requires recordkeeping, emissions reporting, and inventory requirements for t-butyl acetate, this SIP revision includes this requirement.

Pursuant to CAA section 110(l), the Administrator shall not approve a revision of a plan if the revision would interfere with any applicable requirement concerning attainment and reasonable further progress (as defined in CAA section 171), or any other applicable requirement of the Act. The State's addition of the County's exemptions from the definition of VOC, addition of recordkeeping, emissions reporting, photochemical dispersion modeling, and inventory requirements for t-butyl acetate, and other changes in paragraphs 3 and 4 to Chapter 4 of Part II, Section 4-2, of the Chattanooga Code “Definitions” are approvable under section 110(l) because they reflect changes to federal regulations based on findings that the aforementioned compounds are negligibly reactive and make a negligible contribution to troposphere ozone formation.

III. Incorporation by Reference

In this rule, EPA is proposing to include in a final EPA rule regulatory text that includes incorporation by reference. In accordance with requirements of 1 CFR 51.5, EPA is proposing to incorporate by reference Chapter 4 of Part II, Section 4-2, “Definitions” effective August 16, 1995, which revised the definition of VOC. EPA has made, and will continue to make, these materials generally available through www.regulations.gov and at the EPA Region 4 Office (please contact the person identified in the “For Further Information Contact” section of this preamble for more information).

IV. Proposed Action

Pursuant to section 110 of the CAA, EPA is proposing to approve the aforementioned changes to Tennessee's SIP for Chapter 4 of Part II, Section 4-2. EPA has evaluated the relevant portions of Tennessee's June 25, 2008, SIP revision and has determined that it meets the applicable requirements of the CAA and EPA regulations and is consistent with EPA policy.

V. Statutory and Executive Order Reviews

Under the CAA, the Administrator is required to approve a SIP submission that complies with the provisions of the Act and applicable Federal regulations. See 42 U.S.C. 7410(k); 40 CFR 52.02(a). Thus, in reviewing SIP submissions, EPA's role is to approve state choices, provided that they meet the criteria of the CAA. This action merely proposes to approve state law as meeting Federal requirements and does not impose additional requirements beyond those imposed by state law. For that reason, this proposed action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866.

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Public Law 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications as specified by Executive Order 13175 (65 FR 67249, November 9, 2000), nor will it impose substantial direct costs on tribal governments or preempt tribal law.

List of Subjects in 40 CFR Part 52

Environmental protection, Air pollution control, Incorporation by reference, Intergovernmental relations, Ozone, Reporting and recordkeeping requirements, Volatile organic compounds.

Dated: February 20, 2018.
Onis “Trey” Glenn, III,
Regional Administrator, Region 4.

[FR Doc. 2018-04932 Filed 3-12-18; 8:45 am]

BILLING CODE 6560-50-P